DEPARTMENT OF ENERGY

Southwestern Power Administration

Notice of Proposed Tariff Change

AGENCY: Southwestern Power Administration, DOE.

ACTION: Notice of informal meeting and comment opportunity.

SUMMARY: The Southwestern Power Administration (Southwestern) is revising its Open Access Transmission Service Tariff (Tariff). Southwestern's existing Tariff was approved by the Federal Energy Regulatory Commission (Commission) on May 13, 1998. Southwestern intends to update certain Tariff provisions from its original Tariff filing to reflect the agreement executed between Southwestern and the Southwest Power Pool Regional Transmission Organization (SPP RTO), and to further clarify the limitation Southwestern has in the use of generation from facilities owned and operated by the U.S. Army Corps of Engineers. Publication of this Federal Register notice announces a public meeting and an opportunity for informal comment on Southwestern's revised Tariff prior to filing with the Commission.

DATES: The consultation and comment period will begin on the date of publication of this Federal Register notice and will end December 9, 2005. Southwestern will hold an informal public meeting to discuss the proposed Tariff revisions on November 30, 2005. Beginning at 10 a.m., Southwestern will accept oral and written comments at this meeting and will also accept written comments any time during the informal comment period. Persons interested in attending this meeting should indicate in writing their intent to do so by submitting a letter or e-mail to the address below by November 25, 2005. If Southwestern receives no notifications of intent to attend this meeting, the meeting will be cancelled.

ADDRESSES: The public meeting will be held in Southwestern's offices, Room 1460, Williams Center Tower I, One West Third Street, Tulsa, Oklahoma 74103. All written comments should be submitted to Mr. Forrest E. Reeves, Assistant Administrator, Office of Corporate Operations, Southwestern Power Administration, U.S. Department of Energy, One West Third Street, Tulsa, Oklahoma 74103, or by e-mail to swparates@swpa.gov.

FOR FURTHER INFORMATION CONTACT: Mr. Forrest E. Reeves, Assistant Administrator, Office of Corporate Operations, Southwestern Power Administration, U.S. Department of Energy, One West Third Street, Tulsa, Oklahoma 74103, (918) 595-6696, gene.reeves@swpa.gov.

SUPPLEMENTARY INFORMATION: Originally established by Secretarial Order No. 1865 dated August 31, 1943, Southwestern is an agency within the U.S. Department of Energy which was created by an Act of the U.S. Congress, entitled the Department of Energy Organization Act, Public Law No. 95-91, dated August 4, 1977. Southwestern is not a public utility under sections 205 and 206 of the Federal Power Act and is not specifically subject to the requirements of the Federal Energy Regulatory Commission Order Nos. 888, et al. Southwestern is a transmitting utility subject to sections 205 and 211 of the Federal Power Act, as amended by the Energy Policy Acts of 1992 and 2005. Southwestern markets power from 24 multi-purpose reservoir projects with hydroelectric power facilities constructed and operated by the U.S. Army Corps of Engineers. These projects are located in the States of Arkansas, Missouri, Oklahoma, and Texas. Southwestern's marketing area includes these States plus Kansas and Louisiana. Southwestern markets Federal power and energy, and owns and operates a transmission system to integrate its hydroelectric resources in order to reliably deliver such power and energy. Southwestern provides transmission services for the transmission of non-Federal power and energy across Southwestern's transmission system only to the extent that capacity is available over and above that required to fulfill Southwestern's mission and obligations under section 5 of the Flood Control Act of 1944. Nothing in the proposed tariff is intended to alter, amend, or abridge Southwestern's statutory obligation to market Federal power and to repay the Federal investment in the hydroelectric generation projects from which it markets power as well as the investment in its associated transmission system.

On March 31, 2005, Southwestern and the SPP RTO entered into an agreement, which became effective April 1, 2005, and which provides for the SPP RTO to administer Southwestern's Tariff, provide regional reliability council services, scheduling services, operating reserve sharing, Open Access Same Time Information System (“OASIS”) administration, and reliability coordination. The agreement, accepted for filing by the Commission as SPP RTO tariff Attachment AD, also facilitates the reciprocal use of Southwestern's and the SPP RTO's transmission facilities and provides for Southwestern's participation in regional transmission expansion. To provide consistency with the regional practices of the SPP RTO, Southwestern has made changes to its Tariff scheduling, transmission service application, available transmission capability, and facilities studies timing requirements. Changes have also been made to the provisions of Southwestern's Tariff concerning generation redispatch that clarify Southwestern's limitations in the use of its generation resources to provide redispatch under Southwestern's Tariff. The water used to supply the energy from Southwestern's hydroelectric generation resources is limited, and the use of such water and generation resources from Federal hydroelectric projects within congressionally authorized purposes is dictated by Federal statute. These limitations are consistent with the agreement between Southwestern and the SPP RTO.

Following review of the oral and written comments and the information gathered in the course of the proceedings, the Administrator will submit the finalized Tariff to the Commission and request a declaratory order that the Tariff meets Commission requirements as set forth in Commission Order No. 888, et al., to the extent consistent with applicable law. The revised Tariff is posted on Southwestern's Web site at http://www.swpa.gov. Southwestern must receive written comments by the end of the informal comment period to ensure they are considered in Southwestern's filing with the Commission.

Dated: October 14, 2005.
Michael A. Deihl,
Administrator.

[FR Doc. 05-21291 Filed 10-24-05; 8:45 am]

BILLING CODE 6450-01-P